DEPARTMENT OF ENERGY

Federal Energy Regulatory Commission

Combined Notice of Filings #3

Take notice that the Commission received the following electric rate filings:

Docket Numbers: ER10-1910-027; ER10-1911-027.

Applicants: Duquesne Power, LLC, Duquesne Light Company.

Description: Triennial Market Power Analysis for Northeast Region of Duquesne Light Company, et al.

Filed Date: 2/3/23.

Accession Number: 20230203-5148.

Comment Date: 5 p.m. ET 4/4/23.

Docket Numbers: ER23-607-000.

Applicants: K2SO, LLC.

Description: Supplement to December 12, 2022 K2SO, LLC baseline tariff filing.

Filed Date: 2/3/23.

Accession Number: 20230203-5105.

Comment Date: 5 p.m. ET 2/13/23.

Docket Numbers: ER23-1047-000.

Applicants: Duke Energy Florida, LLC.

Description: § 205(d) Rate Filing: DEF-FPL SA No. 393 Concurrence to FCA for Affected System to be effective 1/18/2023.

Filed Date: 2/3/23.

Accession Number: 20230203-5129.

Comment Date: 5 p.m. ET 2/24/23.

Docket Numbers: ER23-1048-000.

Applicants: Lockhart ESS, LLC.

Description: Baseline eTariff Filing: Market-Based Rate Application to be effective 4/5/2023.

Filed Date: 2/3/23.

Accession Number: 20230203-5138.

Comment Date: 5 p.m. ET 2/24/23.

Docket Numbers: ER23-1049-000.

Applicants: Public Service Company of Oklahoma.

Description: Tariff Amendment: Rate Schedule 305 to be effective 5/22/2022.

Filed Date: 2/3/23.

Accession Number: 20230203-5176.

Comment Date: 5 p.m. ET 2/24/23.

Docket Numbers: ER23-1050-000.

Applicants: Midcontinent Independent System Operator, Inc.

Description: § 205(d) Rate Filing: 2023-02-03_SA 3989 METC-New Covert GIA to be effective 6/1/2023.

Filed Date: 2/3/23.

Accession Number: 20230203-5183.

Comment Date: 5 p.m. ET 2/24/23.

Take notice that the Commission received the following public utility holding company filings:

Docket Numbers: PH23-3-000.

Applicants: LS Power Development, LLC.

Description: LS Power Development, LLC submits FERC 65-B Notice of Change in Fact to Waiver Notification.

Filed Date: 2/3/23.

Accession Number: 20230203-5137.

Comment Date: 5 p.m. ET 2/24/23.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 3, 2023.
Debbie-Anne A. Reese,
Deputy Secretary.

[FR Doc. 2023-02764 Filed 2-8-23; 8:45 am]

BILLING CODE 6717-01-P